DEPARTMENT OF HOMELAND SECURITY

Federal Emergency Management Agency

[Docket ID: FEMA-2024-0016; OMB No. 1660-0151]

Agency Information Collection Activities: Submission for OMB Review, Comment Request; Facility Access Request

AGENCY: Federal Emergency Management Agency, Department of Homeland Security.

ACTION: 30-Day notice of extension and request for comments.

SUMMARY: The Federal Emergency Management Agency (FEMA) will submit the information collection abstracted below to the Office of Management and Budget for review and clearance in accordance with the requirements of the Paperwork Reduction Act of 1995. FEMA invites the general public to take this opportunity to comment on an extension, without change, of a currently approved information collection. In accordance with the requirements of the Paperwork Reduction Act of 1995, this notice seeks comments concerning access to all FEMA controlled facilities. This information is used to create a profile within the system boundary of FEMA.

DATES: Comments must be submitted on or before October 21, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Requests for additional information or copies of the information collection should be made to Director, Information Management Division, 500 C Street SW, Washington, DC 20472, email address FEMA-Information-Collections-Management@fema.dhs.gov or Kymlee Murphy Perroni, Security Technology Branch Chief, Federal Emergency Management Agency Office of the Chief Security Officer, 202-710-5587, and FEMA-Information-Collections-Management@fema.dhs.gov.

SUPPLEMENTARY INFORMATION: Visitor management is governed by DHS Instruction Manual 121-01-011-01, Visitor Management for DHS Headquarters and DHS Component Headquarters Facilities; FEMA Directive 121-1, Personal Identification Standard; FEMA Directive 121-3, Facility Access; and FEMA Instruction 121-3-1, Credential and Access Reference.

This proposed information collection previously published in the Federal Register on May 31, 2024 at 89 FR 47159 with a 60-day public comment period. FEMA received zero comments. The purpose of this notice is to notify the public that FEMA will submit the information collection abstracted below to the Office of Management and Budget for review and clearance.

Collection of Information

Title: Facility Access Request.

Type of Information Collection: Extension, without change, of a currently approved information collection.

OMB Number: 1660-0151.

FEMA Forms: FEMA Form FF-900-FY-21-100 Facility Access Request and FEMA Form FF-900-FY-21-101 Facility Access Request.

Abstract: The purpose of these forms is to apply for access to all FEMA controlled facilities. This information is used to create a profile in the FEMA Electronic Security System under the subsystem Physical Access Control System (PACS). The personally identifiable information (PII) is used to authenticate the identity of Federal employees, contractors, and visitors who have entry authorization, and in the event of an emergency, to contact individuals. Respondents are typically individuals.

Affected Public: Federal Government & State, local or Tribal Government.

Estimated Number of Respondents: 20,500.

Estimated Number of Responses: 20,500.

Estimated Total Annual Burden Hours: 3,417.

Estimated Total Annual Respondent Cost: $180,178.

Estimated Respondents' Operation and Maintenance Costs: $0.

Estimated Respondents' Capital and Start-Up Costs: $0.

Estimated Total Annual Cost to the Federal Government: $27,201.

Comments

Comments may be submitted as indicated in the ADDRESSES caption above. Comments are solicited to (a) evaluate whether the proposed data collection is necessary for the proper performance of the Agency, including whether the information shall have practical utility; (b) evaluate the accuracy of the Agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent Brown Wilson,
Records Management Branch Chief, Office of the Chief Administrative Officer, Mission Support, Federal Emergency Management Agency, Department of Homeland Security.

[FR Doc. 2024-21281 Filed 9-18-24; 8:45 am]

BILLING CODE 9111-19-P